DEPARTMENT OF COMMERCE

International Trade Administration

[A-427-801, A-428-801, A-475-801, A-588-804, A-412-801]

Antifriction Bearings (Other Than Tapered Roller Bearings) and Parts Thereof From France, Germany, Italy, Japan, and the United Kingdom; Notice of Extension of Time Limits for Preliminary Results of Antidumping Duty Administrative Reviews

AGENCY: Import Administration, International Trade Administration, Department of Commerce.

ACTION: Notice of extension of time limits for preliminary results of antidumping duty administrative reviews.

SUMMARY: The Department of Commerce is extending the time limits for the preliminary results of the antidumping administrative review.

EFFECTIVE DATE: January 17, 2002.

FOR FURTHER INFORMATION CONTACT: Mark Ross, AD/CVD Enforcement 3, Import Administration, International Trade Administration, U.S. Department of Commerce, Washington, DC 20230; telephone: (202) 482-4794.

The Applicable Statute

Unless otherwise indicated, all citations made to the Tariff Act of 1930, as amended(the Act), are references to the provisions effective January 1, 1995, the effective date of the amendments by the Uruguay Round Agreements Act.

Extension of Time Limits for Preliminary Results of Antidumping Duty Administrative Reviews

The Department has received requests to conduct administrative reviews of the antidumping duty orders on antifriction bearings (other than tapered roller bearings) and parts thereof from France, Germany, Italy, Japan, and the United Kingdom. On June 19, 2001, the Department initiated these administrative reviews covering the period May 1, 2000, through April 30, 2001. See Initiation of Antidumping and Countervailing Duty Administrative Reviews and Requests for Revocations in Part, 66 FR 32934, June 19, 2001.

Because of the complexity of certain issues in each review and the large number of respondents in each review, it is not practicable to complete these reviews within the time limits mandated by section 751(a)(3)(A) of the Act. Therefore, in accordance with that section, the Department is extending the time limit for the preliminary results of these administrative reviews until April 1, 2002.

Dated: January 10, 2002.
Susan H. Kuhbach,
Deputy Assistant Secretary, Acting, for AD/CVD Enforcement I.

[FR Doc. 02-1270 Filed 1-16-02; 8:45 am]

BILLING CODE 3510-DS-P